COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete service(s) from the Procurement List that were furnished by nonprofit agencies employing persons who are blind or have other severe disabilities.

DATES: Comments must be received on or before: October 10, 2021.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following service(s) are proposed for deletion from the Procurement List:

Service(s)

Service Type: Janitorial/Custodial

Mandatory for: Port Angeles Federal Building: 138 W First Street NULL Port Angeles, WA

Contracting Activity: PUBLIC BUILDINGS SERVICE, GSA/PBS

Service Type: Janitorial Service

Mandatory for: US Coast Guard, C3CEN-R21-Juneau Detachment, Douglas, AK 100 Savikko Douglas, AK

Designated Source of Supply: REACH, Inc., Juneau, AK

Contracting Activity: U.S. COAST GUARD, BASE KETCHIKAN(00035)

Service Type: Custodial Service

Mandatory for: White Mountain National Forest, Saco Ranger Administrative Site, Conway, NH Routes 112, 33 Kancamagus Highway, Conway, NH

Designated Source of Supply: Northern New England Employment Services, Portland, ME

Contracting Activity: FOREST SERVICE, ALLEGHENY NATIONAL FOREST

Michael R. Jurkowski,
Acting Director, Business Operations.

[FR Doc. 2021-19561 Filed 9-9-21; 8:45 am]

BILLING CODE 6353-01-P